DEPARTMENT OF HEALTH AND HUMAN SERVICES

Centers for Medicare and Medicaid Services

[Document Identifier: CMS-1537, CMS-R-200, CMS-10094 and CMS-R-247]

Agency Information Collection Activities: Submission for OMB Review; Comment Request

AGENCY: Centers for Medicare and Medicaid Services.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement, with change, of a previously approved collection for which approval has expired; Title of Information Collection: Medicare/Medicaid Hospital Surveyor's Worksheet Form and Supporting Regulations in 42 CFR 488.26 and 442.30; Form No.: CMS-1537 (OMB #0938-0382); Use: Section 1861(e) of the Social Security Act (the Act) provides that hospitals participating in Medicare under the Act must meet specific requirements. These requirements are presented as Condition of Participation. State agencies can determine compliance with these conditions through the use of this worksheet form; Frequency: Other: 3-5 years; Affected Public: State, Local, or Tribal Government, Business or other for-profit, Not-for-profit institutions; Number of Respondents: 3323; Total Annual Responses: 3323; Total Annual Hours: 553.

2. Type of Information Collection Request: Revision of a currently approved collection; Title of Information Collection: Health Plan Employer Data and Information Set (HEDIS) and Health Outcome Survey (HOS) and supporting regulations at 42 CFR 422.152; Form No.: CMS-R-200 (OMB #0938-0701); Use: The Centers for Medicare and Medicaid Services (formerly HCFA) collects quality performance measures in order to hold the Medicare managed care industry accountable for the care being delivered, to enable quality improvement, and to provide quality information to Medicare beneficiaries in order to promote informed choice. It is critical to CMS's mission that we collect and disseminate information that will help beneficiaries choose among health plans, contribute to improved quality of care through identification of improvement opportunities and assist CMS in carrying out its oversight and purchasing responsibilities; Frequency: Annually; Affected Public: Business or other for-profit, Not-for-profit institutions, and Individuals or Households; Number of Respondents: 166,709; Total Annual Responses: 70,992; Total Annual Hours: 498,436.

3. Type of Information Collection Request: New Collection; Title of Information Collection: Evaluation of the Medicaid Health Reform Demonstrations; Form No.: CMS-10094 (OMB #0938-NEW); Use: This survey is part of an evaluation of the State of Vermont's pharmacy assistance programs, which principally serve low income Medicare beneficiaries who do not have other coverage for prescription drugs. The surveys will explore the issues of self-selection into the pharmacy programs, motivations for joining or not joining, the extent of pharmacy coverage among low income Medicare beneficiaries who are not enrolled and the impact of coverage on Medicare spending. The Vermont evaluation is part of a larger evaluation of Section 1115 Medicaid demonstration programs in five states. (The other states are California, Kentucky, Minnesota, and New York. The survey will take place only in Vermont); Frequency: Other: One-time; Affected Public: Individuals or Households; Number of Respondents: 11,310; Total Annual Responses: 11,310; Total Annual Hours: 1,087.

4. Type of Information Collection Request: Reinstatement, without change, of a previously approved collection; Title of Information Collection: Expanded Coverage for Diabetes Outpatient Self-Management Training Services and Supporting Regulations Contained in 42 CFR 410.141-410.146 and 414.63; Form No.: CMS-R-247 (OMB #0938-0818); Use: 42 CFR 410.141-410.146 and 414.63 provide for uniform coverage of diabetes outpatient self-management training services. These services include educational and training services furnished to a beneficiary with diabetes by an entity approved to furnish the services. The physician or qualified nonphysician practitioner treating the beneficiary's diabetes certifies that these services are needed as part of a comprehensive plan of care. The regulations set forth the quality standards that an entity is required to meet in order to participate in furnishing diabetes outpatient self-management training services; Frequency: On occasion; Affected Public: Business or other for-profit; Number of Respondents: 1,708; Total Annual Responses: 6,832; Total Annual Hours: 53,013.5.

To obtain copies of the supporting statement and any related forms for the proposed paperwork collections referenced above, access CMS's Web Site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503, Fax Number: (202) 395-6974.

Dated: August 21, 2003.
Dawn Willinghan,
Acting Paperwork Reduction Act Team Leader, CMS Reports Clearance Officer, Office of Strategic Operations and Strategic Affairs, Division of Regulations Development and Issuances.

[FR Doc. 03-22076 Filed 8-28-03; 8:45 am]

BILLING CODE 4120-03-M